DEPARTMENT OF DEFENSE

Department of the Army; Corps of Engineers

Intent To Prepare a Draft Environmental Impact Statement for Shoreline Protection for Flagler County, FL

AGENCY: Department of the Army, U.S. Army Corps of Engineers, DOD. Cooperating Agency: City of Flagler Beach, Flagler Beach, Florida.

ACTION: Notice of intent.

SUMMARY: The Jacksonville District, U.S. Army Corps (Corps) of Engineers intends to prepare a Draft Environmental Impact Statement (EIS) for protection of 18-Miles of coastal shoreline in Flagler County, FL. The project is a cooperative effort between the U.S. Army Corps of Engineers (lead Federal agency) and City of Flagler Beach (non-Federal sponsor and cooperating agency).

ADDRESSES: Ms. C. L. Brooks, U.S. Army Corps of Engineers, Jacksonville District, Planning Division, Environmental Section, P.O. Box 4970, Jacksonville, FL 32207.

FOR FURTHER INFORMATION CONTACT: C. L. Brooks at (904) 232-2130.

SUPPLEMENTARY INFORMATION: Authority for the proposed study is House Resolution 2676 adopted May 22, 2002. A Reconnaissance Report completed in March 2004 by the Corps, concluded based on preliminary findings, there was a federal interest in pursuing shoreline protection for Flagler County, FL.

Alternatives: Project's alternatives include no action and various levels of protection along approximately 18 miles of coastal shoreline with substantial critically eroded areas. In addition to various levels of beach nourishment and periodic renourishment, the Corps will consider other management measures such as nearshore placement of sand, breakwaters, submerged artificial reef, groins, revetments, seawalls, dunes/vegetation, change to the Coastal Construction Control Line, relocation of structures, moratorium on construction, establish a no-growth program, relocation of structures, flood proofing of structures, and condemnation of structures with land acquisition.

Issues: The EIS will consider impacts on hardbottom communities, sea grasses, protected species, shore impacts, health and safety, water quality, aesthetics and recreation, fish and wildlife resources, cultural resources, energy conservation, socio-economic resources, navigation, and other impacts identified through scoping, public involvement and interagency coordination.

Scoping: The scoping process will involve Federal, State, County and municipal agencies and other interested persons and organizations. Any public or agency scoping meeting will be announced separately from this notice.

Public Involvement: We invite the participation of affected Federal, State and local agencies, affected Native-American Tribes, and other interested private organizations and individuals. There will be a public meeting on the Draft Environmental Impact Statement following its preparation. The date, time, and location will be announced.

Coordination: The proposed action is being coordinated with the U.S. Fish and Wildlife Service (FWS) [under Section 7 of the Endangered Species Act and the Fish and Wildlife and Coordination Act] and with the National Marine Fisheries Service [under the Magnuson-Stevens Fishery Conservation and Management Act (on Essential Fish Habitat) and Section 7 of the Endangered Species Act]. The proposed action is also being coordinated with the Florida State Historic Preservation Officer, the U.S. Coast Guard, and the U.S. Environmental Protection Agency.

Other Environmental Review and Consultation: The proposed action would involve evaluation for compliance with guidelines pursuant to Section 404(b)(1) of the Clean Water Act, water quality certification (application to the State of Florida) pursuant to Section 401 of the Clean Water Act, certification of state lands, easements, and rights-of-way, and determination of Coastal Zone Management Act Consistency.

Agency Role: As the cooperating agency, non-Federal sponsor and leading local expert, the City of Flagler Beach will provide information and assistance on the resources to be impacted, mitigation measures and alternatives. Other agencies having either regulatory authority or special expertise may also be invited to become a cooperating agency in preparation of the EIS.

Draft EIS Preparation: It is anticipated that the Draft EIS will be available to the public by December 2010. As the study and EIS develop, additional information will be posted under Flagler County on the Jacksonville District's Environmental Documents Web page at: http://planning.saj.usace.army.mil/envdocs/envdocsb.htm. The status of any Florida Department of Environmental Protection application submitted for permit of this action will be posted on the Internet at: http://www.dep.state.fl.us/beaches/permitting/permits.htm.

Dated: August 26, 2008.
Eric P. Summa,
Acting Chief, Environmental Branch.

[FR Doc. E8-20722 Filed 9-5-08; 8:45 am]

BILLING CODE 3710-AJ-P